FEDERAL COMMUNICATIONS COMMISSION

47 CFR Part 73

[DA 03-2034; MB Docket No. 03-140; RM-10697]

Radio Broadcasting Services; Avoca, Freeland and Wilkes-Barre, PA

AGENCY: Federal Communications Commission.

ACTION: Proposed rule.

SUMMARY: This document requests comments on a petition for rule making filed by Entercom Wilkes-Barre Scranton, LLC (“Petitioner”), requesting the reallotment of Channel 276A from Freeland, PA to Avoca, PA, and modification of the license for Station WAMT accordingly. The coordinates for Channel 276A at Avoca are 41-18-20 and 75-45-38. Petitioner further requests the reallotment of Channel 253B, Station WKRZ, from Wilkes-Barre, PA to Freeland, PA, as a replacement service for Station WAMT. The coordinates for Channel 253B at Freeland are 41-11-56 and 75-49-06. The proposal complies with the provisions of section 1.420(i) of the Commission's Rules, and therefore, the Commission will not accept competing expressions of interest in the use of Channels 276A at Avoca and 253B at Freeland. Canadian concurrence will be requested for the proposed reallotments.

DATES: Comments must be filed on or before August 14, 2003, and reply comments on or before August 29, 2003.

ADDRESSES: Secretary, Federal Communications Commission, 445 12th Street, SW., Room TW-A325, Washington, DC 20554. In addition to filing comments with the FCC, interested parties should serve the petitioners' counsel, as follows: Brian M. Madden, John W. Bagwell, Leventhal Senter & Lerman PLLC, 2000 K Street, NW., Suite 600, Washington, DC 20006-1809.

FOR FURTHER INFORMATION CONTACT: Kathleen Scheuerle, Media Bureau, (202) 418-2180.

SUPPLEMENTARY INFORMATION: This is a synopsis of the Commission's Notice of Proposed Rule Making, MB Docket No. 03-140, adopted June 18, 2003, and released June 23, 2003. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. see 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Pennsylvania, is amended by removing Channel 276A and by adding Channel 253B at Freeland, by removing Channel 253B at Wilkes-Barre, and by adding Avoca, Channel 276A.

Federal Communications Commission.
John A. Karousos,
Assistant Chief, Audio Division, Media Bureau.

[FR Doc. 03-16962 Filed 7-3-03; 8:45 am]

BILLING CODE 6712-01-P